FEDERAL COMMUNICATIONS COMMISSION

47 CFR Part 73

[DA 02-784, MM Docket No. 00-136, RM-9898]

Digital Television Broadcast Service; Birmingham, AL

AGENCY: Federal Communications Commission.

ACTION: Proposed rule; dismissal.

SUMMARY: The Commission, at the request of the Alabama Educational Television Commission, licensee of noncommercial station WBIQ-TV, dismisses its petition for rule making seeking the substitution of DTV channel *5 for DTV channel *53 at Birmingham, Alabama. See 65 FR 51278, August 23, 2000.

With is action, this proceeding is terminated.

FOR FURTHER INFORMATION CONTACT: Pam Blumenthal, Media Bureau, (202) 418-1600.

SUPPLEMENTARY INFORMATION: This is a synopsis of the Commission's Report and Order, MM Docket No. 00-136, adopted April 8, 2002, and released April 15, 2002. The full text of this document is available for public inspection and copying during regular business hours in the FCC Reference Information Center, Portals II, 445 12th Street, S.W., Room CY-A257, Washington, DC. This document may also be purchased from the Commission's duplicating contractor, Qualex International, Portals II, 445 12th Street, SW, CY-B402, Washington, DC, 20554, telephone 202-863-2893, facsimile 202-863-2898, or via e-mail qualexint@aol.com.

Federal Communications Commission.
Barbara A. Kreisman,
Chief, Video Division, Media Bureau.

[FR Doc. 02-9379 Filed 4-17-02; 8:45 am]

BILLING CODE 6712-01-P